NUCLEAR REGULATORY COMMISSION

[NRC-2012-0050]

Biweekly Notice Applications and Amendments to Facility Operating Licenses Involving No Significant Hazards Considerations

Background

Pursuant to Section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from January 27, 2012 to February 22, 2012. The last biweekly notice was published on February 21, 2012 (77 FR 9998).

ADDRESSES: You may access information and comment submissions related to this document, which the NRC possesses and is publicly available, by searching on http://www.regulations.gov under Docket ID NRC-2012-0050. You may submit comments by the following methods:

• Federal rulemaking Web site: Go to http://www.regulations.gov and search for Docket ID NRC-2012-0050. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0050 when contacting the NRC about the availability of information regarding this document. You may access information related to this document, which the NRC possesses and is publicly available, by the following methods:

• Federal Rulemaking Web Site: Go to http://www.regulations.gov and search for Docket ID NRC-2012-0050.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0050 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) Involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852. The NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are available online in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Nebraska Public Power District, Docket No. 50-298, Cooper Nuclear Station, Nemaha County, Nebraska

Date of amendment request: September 16, 2011.

Description of amendment request: The proposed amendment would revise specific Technical Specification (TS) requirements to support operation with 24-month fuel cycles, in accordance with the guidance in Generic Letter (GL) 91-04, “Changes in Technical Specification Surveillance Intervals to Accommodate a 24-Month Fuel Cycle,” dated April 2, 1991. In addition, the amendment would incorporate NRC-approved Technical Specification Task Force (TSTF) change traveler TSTF-493, Revision 4, “Clarify Application of Setpoint Methodology for LSSS [Limiting Safety System Settings] Functions,” to be consistent with Option A.

Specifically, to accommodate a 24-month fuel cycle, the amendment would revise certain TS Surveillance Requirement (SR) frequencies that are specified as “18 months” to “24 months”; the TS Allowable Values of two instrument functions would be revised; and, consistent with GL 91-04, testing frequencies would be changed from “18 months” to “24 months” in TS 5.5.2, “Systems Integrity Monitoring Program,” and TS 5.5.7, “Ventilation Filter Testing Program (VFTP),” and pressure measurements would be changed from “18 months” to “24 months” in TS 5.5.13, “Control Room Envelope Habitability Program.”

The proposed change to adopt TSTF-493, Revision 4, Option A, would revise the TSs by adding surveillance Notes with changes to setpoint values to the instrumentation Functions.

Basis for proposed no significant hazards consideration determination: As required by 10 CFR 50.91(a), the licensee has provided its analysis of the issue of no significant hazards consideration, which is presented below:

1. Do the proposed changes involve a significant increase in the probability or consequences of an accident previously evaluated?

Response: No.

The proposed TS changes involve a change in the surveillance testing intervals and certain TS Allowable Values to facilitate a change in the operating cycle length. The proposed TS changes do not physically impact the plant. The proposed TS changes do not degrade the performance of, or increase the challenges to, any safety systems assumed to function in the accident analysis. The proposed TS changes do not impact the usefulness of the surveillance and testing requirements in evaluating the operability of required systems and components, or the way in which the surveillances are performed. In addition, the frequency of surveillance testing and TS Allowable Values are not considered initiators of any analyzed accident, nor do revisions to the frequency or TS Allowable Values introduce any accident initiators.

Therefore, the proposed change does not involve a significant increase in the probability of an accident previously evaluated.

The consequences of a previously evaluated accident are not significantly increased. The proposed changes to surveillance frequencies do not affect the performance of any equipment credited to mitigate the radiological consequences of an accident. The changes to the TS Allowable Values remain bounded by their associated analytical limits. Evaluation of the proposed TS changes demonstrated that the availability of credited equipment is not significantly affected because of other more frequent testing that is performed, the availability of redundant systems and equipment, and the high reliability of the equipment. Historical review of surveillance test results and associated maintenance records did not find evidence of failures that would invalidate the above conclusions.

Therefore, the proposed change does not involve a significant increase in the probability or consequences of an accident previously evaluated.

2. Do the proposed changes create the possibility of a new or different kind of accident from any accident previously evaluated?

Response: No.

The proposed TS changes involve a change in the surveillance testing intervals and certain changes to TS Allowable Values to facilitate a change in the operating cycle length. The proposed TS changes do not introduce any failure mechanisms of a different type than those previously evaluated, since there are no physical configuration or design changes being made to the facility.

No new or different equipment is being installed. No installed equipment is being operated in a different manner. As a result, no new failure modes are being introduced. Although certain instrument setpoints and TS Allowable Values are being revised, the way surveillance tests are performed remains unchanged. The TS Allowable Values remain bounded by their associated analytical limits. A historical review of surveillance test results and associated maintenance records indicated there was no evidence of any failures that would invalidate the above conclusions.

Therefore, the proposed change does not create the possibility of a new or different kind of accident, from any previously evaluated.

3. Do the proposed changes involve a significant reduction in a margin of safety?

Response: No.

The proposed TS changes involve a change in the surveillance testing intervals and certain TS Allowable Values to facilitate a change in the operating cycle length. The impact of these changes on system availability is not significant, based on other more frequent testing that is performed, the existence of redundant systems and equipment, and overall system reliability. The revised TS Allowable Values remain bounded by their associated analytical limits. Evaluations have shown there is no evidence of time dependent failures that would impact the availability of the systems. The proposed changes do not significantly impact the condition or performance of structures, systems, and components relied upon for accident mitigation. The proposed changes do not result in any hardware changes or in any changes to the analytical limits assumed in accident analyses. Existing operating margin between plant conditions and actual plant setpoints is not significantly reduced due to these changes. The proposed changes do not significantly impact any safety analysis assumptions or results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

Nebraska Public Power District, Docket No. 50-298, Cooper Nuclear Station, Nemaha County, Nebraska

Date of amendment request: September 22, 2011.

Description of amendment request: The amendment would revise the curves in Technical Specification (TS) 3.4.9, “RCS [Reactor Coolant System] Pressure and Temperature (P/T) Limits,” to replace the 28 Effective Full Power Years (EFPY) restriction in TS Figures 3.4.9-1, 3.4.9-2, and 3.4.9-3 and the minimum temperature in Surveillance Requirement (SR) 3.4.9.5, SR 3.4.9.6, and SR 3.4.9.7. The amendment would include a set of updated P/T curves for pressure test, core not critical, and core critical conditions for 32 EFPY based on a fluence evaluation performed using NRC-approved fluence methodology. The new curves would show a shift of minimum operating temperature which allows the bolt-up and minimum temperatures specified for SR 3.4.9.5, SR 3.4.9.6, and SR 3.4.9.7 to be changed from 80 degrees Fahrenheit (°F) to 70 °F.

Basis for proposed no significant hazards consideration determination: As required by 10 CFR 50.91(a), the licensee has provided its analysis of the issue of no significant hazards consideration, which is presented below:

1. Do the proposed changes involve a significant increase in the probability or consequences of an accident previously evaluated?

Response: No.

The P/T limits are not derived from Design Basis Accident (DBA) analyses. They are prescribed by American Society of Mechanical Engineers (ASME) Code Section XI, 10 CFR 50 Appendix G and H, and associated guidance documents such as Regulatory Guide 1.99 Revision 2, as restrictions on normal operation to avoid encountering pressure, temperature, and temperature rate of change conditions that might cause undetected flaws to propagate and cause non-ductile failure of the reactor coolant pressure boundary. Thus, they ensure that an accident precursor is not likely. Hence, they are included in the TS as satisfying Criterion 2 of 10 CFR 50.36(c)(2)(ii). The revision of the numerical value of these limits, i.e., new curves, using an NRC-approved methodology, does not change the existing regulatory requirements, upon which the curves are based. Thus, this revision will not increase the probability of any accident previously evaluated.

The proposed change does not alter the design assumptions, conditions, or configuration of the facility or the manner in which the facility is operated or maintained. The proposed changes will not affect any other System, Structure or Component designed for the mitigation of previously analyzed events. The proposed changes do not affect the source term, containment isolation, or radiological release assumptions used in evaluating the radiological consequences of any accident previously evaluated. Thus, the proposed revision of the existing numerical values with the updated figures for the Reactor Coolant System (RCS) P/T limits, which are based upon an NRC-approved methodology for calculating the neutron fluence on the Reactor Pressure Vessel (RPV) and new bolt-up limit, will not increase the consequences of any previously evaluated accident.

Therefore, this proposed change does not involve a significant increase in the probability or consequences of an accident previously evaluated.

2. Do the proposed changes create the possibility of a new or different kind of accident from any accident previously evaluated?

Response: No.

The proposed changes do not involve a physical alteration of the plant (i.e., no new or different type of equipment will be installed) or a change in the processes governing normal plant operation. The proposed changes are consistent with the safety analysis assumptions and current plant operating practice. [Nebraska Public Power District (NPPD)] is only requesting to revise the existing numerical values and update the TS figures for the RCS P/T limits based upon an NRC-approved methodology for calculating the neutron fluence on the RPV, and to reflect a new bolt-up limit. The curves continue to be based upon ASME Code.

Therefore, the proposed change does not create the possibility for a new or different kind of accident from any accident previously evaluated.

3. Do the proposed changes involve a significant reduction in a margin of safety?

Response: No.

The proposed changes do not alter the manner in which Safety Limits, Limiting Safety System Settings or Limiting Conditions for Operation are determined. The setpoints at which protective actions are initiated are not altered by the proposed changes. Sufficient equipment remains available to actuate upon demand for the purpose of mitigating an analyzed event. NPPD is only requesting to revise the existing numerical values and update the TS figures for the RCS P/T limits based upon an NRC-approved methodology for calculating the neutron fluence, Radiation Analysis Modeling Application. The new curves also reflect a new bolt up limit. No changes to the other Limiting Conditions for Operation or SRs of TS 3.4.9 are proposed.

In 10 CFR part 50, Appendix G specifies fracture toughness requirements to provide adequate margins of safety during operation over the service lifetime. The values of adjusted reference temperature and upper-shelf energy will remain within the limits of Regulatory Guide 1.99 Revision 2 and Appendix G of 10 CFR part 50 for at least 32 EFPY of operation. The safety analysis supporting this change continues to satisfy the ASME Code, 10 CFR part 50 Appendixes G and H requirements, and associated guidance documents such as Regulatory Guide 1.99 Revision 2. Thus, the proposed changes will not significantly reduce any margin of safety that currently exists.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

Northern States Power Company—Minnesota, Docket No. 50-263, Monticello Nuclear Generating Plant, Wright County, Minnesota

Date of amendment request: February 2, 2012.

Description of amendment request: The licensee proposed to modify certain surveillance requirements (SRs) in the Technical Specifications to provide an alternative means for testing the dual function, three-stage, Target Rock main steam safety/relief valves (S/RVs). The SRs affected are 3.4.3, “Safety/Relief Valves (S/RVs),” 3.5.1, “ECCS [Emergency Core Cooling System]—Operating,” and 3.6.1.5, “Low-Low Set (LLS) Valves.” These S/RVs provide the overpressure protection safety function, and also provide the automatic depressurization and low-low set relief function. This proposed amendment would modify the subject SRs by providing an alternative methodology using a series of overlapping tests to demonstrate the required functioning, in lieu of manually actuating the valves during plant startup.

Basis for proposed no significant hazards consideration determination: As required by 10 CFR 50.91(a), the licensee has provided its analysis of the issue of no significant hazards consideration (NSHC) analysis. The NRC staff reviewed the licensee's NSHC analysis and has prepared its own as follows:

1. Does the proposed amendment involve a significant increase in the probability or consequences of an accident previously evaluated?

Response: No.

Accidents are initiated by malfunctions or failures of plant structures, systems, or components (SSCs). The proposed amendment only affects the manner in which the subject S/RVs are tested, and does not involve any design change to the subject S/RVs or other SSCs. The proposed alternative S/RV testing methodology provides an equivalent level of assurance that the S/RVs are capable of performing their intended safety functions. Since there will be no design change as a result of the proposed amendment, the S/RVs will continue to perform their design safety function, and there will be no increase in the consequences of previously evaluated accidents. In addition, since previously evaluated accidents were not assumed to be initiated by the method of testing of the S/RVs, the proposed amendment will cause no increase in the probability of occurrence of previously evaluated accidents.

2. Does the proposed amendment create the possibility of a new or different kind of accident from any accident previously evaluated?

Response: No.

The proposed amendment does not affect the design function, operation, or accident performance of the S/RVs, or any plant SSC previously evaluated. The proposed amendment does not involve installation of any new equipment, and the existing installed equipment will not be operated in a new or different manner. The changes to the SRs regarding testing methodology will ensure that the S/RVs remain capable of performing their design safety function. No setpoints will be changed which would alter the dynamic response of plant equipment. Accordingly, no new failure modes are introduced.

Therefore, the propose amendment does not create the possibility of a new or different kind of accident from any previously evaluated.

3. Does the proposed amendment involve a significant reduction in a margin of safety?

Response: No.

The proposed amendment will not alter any previously used safety analysis methods, scenarios, acceptance criteria, or assumptions. The proposed amendment does not affect the valve setpoint or operational criteria of the S/RVs.

Therefore, the proposed amendment does not involve a significant reduction in a margin of safety.

The NRC staff has reviewed the licensee's analysis and, based on its own analysis, concludes that the three standards of 10 CFR 50.92(c) are satisfied. Therefore, the NRC staff proposes to determine that the proposed amendment involves no significant hazards consideration.

Attorney for the licensee: Peter M. Glass, Assistant General Counsel, Xcel Energy Services, Inc., 414 Nicollet Mall, Minneapolis, MN 55401.

NRC Branch Chief: Shawn A. Williams, Acting.

Southern Nuclear Operating Company, Inc., Docket Nos. 50-424 and 50-425, Vogtle Electric Generating Plant, Units 1 and 2, Burke County, Georgia

Date of amendment request: January 12, 2012.

Description of amendment request: The proposed amendments would revise technical specification (TS) 5.5.7 “Reactor Coolant Pump [RCP] Flywheel Inspection Program.” Specifically, the inspection interval would be changed from “at least once per 10 years” to “at least once per 20 years.” This change is consistent with Industry/Technical Specification Task Force (TSTF) Standard Technical Specification Change Traveler, TSTF-421-A, “Revision to RCP Flywheel Inspection Program (WCAP-15666).” The availability of this TS improvement was published in the Federal Register (FR) on October 22, 2003 (68 FR 60422), as part of the Consolidated Line Item Improvement Process.

Basis for proposed no significant hazards consideration determination: As required by 10 CFR 50.91(a), the licensee has provided its analysis of the issue of no significant hazards consideration (NSHC). The licensee has stated that the model NSHC as published in the Federal Register on June 24, 2003 (68 FR 37590), applies to the current request. The model NSHC is reproduced below:

Criterion 1

The Proposed Change Does Not Involve a Significant Increase in the Probability or Consequences of an Accident Previously Evaluated.

The proposed change to the RCP flywheel examination frequency does not change the response of the plant to any accidents. The RCP will remain highly reliable and the proposed change will not result in a significant increase in the risk of plant operation. Given the extremely low failure probabilities for the RCP motor flywheel during normal and accident conditions, the extremely low probability of a loss-of-coolant accident (LOCA) with loss of offsite power (LOOP), and assuming a conditional core damage probability (CCDP) of 1.0 (complete failure of safety systems), the core damage frequency (CDF) and change in risk would still not exceed the NRC's acceptance guidelines contained in RG 1.174 (<1.0E-6 per year). Moreover, considering the uncertainties involved in this evaluation, the risk associated with the postulated failure of an RCP motor flywheel is significantly low. Even if all four RCP motor flywheels are considered in the bounding plant configuration case, the risk is still acceptably low.

The proposed change does not adversely affect accident initiators or assumptions, conditions, or configuration of the facility, or the manner in which the plant is operated and maintained; alter or prevent the ability of structures, systems, components (SSCs) from performing their intended function to mitigate the consequences of an initiating event within the assumed acceptance limits; or affect the source term, containment isolation, or radiological release assumptions used in evaluating the radiological consequences of an accident previously evaluated. Further, the proposed change does not increase the type or amount of radioactive effluent that may be released offsite, nor significantly increase individual or cumulative occupational/public radiation exposure. The proposed change is consistent with the safety analysis assumptions and resultant consequences.

Therefore, the proposed change does not involve a significant increase in the probability or consequences of an accident previously evaluated.

Criterion 2

The Proposed Change Does Not Create the Possibility of a New or Different Kind of Accident From Any Accident Previously Evaluated.

The proposed change in flywheel inspection frequency does not involve any change in the design or operation of the RCP. Nor does the change to examination frequency affect any existing accident scenarios, or create any new or different accident scenarios. Further, the change does not involve a physical alteration of the plant (i.e., no new or different type of equipment will be installed) or alter the methods governing normal plant operation. In addition, the change does not impose any new or different requirements or eliminate any existing requirements, and does not alter any assumptions made in the safety analysis. The proposed change is consistent with the safety analysis assumptions and current plant operating practice.

Therefore, the proposed change does not create the possibility of a new or different kind of accident from any accident previously evaluated.

Criterion 3

The Proposed Change Does Not Involve a Significant Reduction in a Margin of Safety.

The proposed change does not alter the manner in which safety limits, limiting safety system settings, or limiting conditions for operation are determined. The safety analysis acceptance criteria are not impacted by this change. The proposed change will not result in plant operation in a configuration outside of the design basis. The calculated impact on risk is insignificant and meets the acceptance criteria contained in RG 1.174. There are no significant mechanisms for inservice degradation of the RCP flywheel.

Therefore, the proposed change does not involve a significant reduction in a margin of safety.

Based upon the reasoning presented above and the previous discussion of the amendment request, the requested change does not involve a significant hazards consideration.

The NRC staff has reviewed the licensee's assessment that the model NSHC applies and, based on this review, it appears that the three standards of 10 CFR 50.92(c) are satisfied. Therefore, the NRC staff proposes to determine that the amendment request involves no significant hazards consideration.

Attorney for licensee: Mr. Arthur H. Domby, Troutman Sanders, NationsBank Plaza, Suite 5200, 600 Peachtree Street, NE., Atlanta, Georgia 30308-2216.

NRC Branch Chief: Nancy Salgado.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are available online in the NRC Library at http://www.nrc.gov/reading-rm/adams.html. If you do not have access to ADAMS or if there are problems in accessing the documents located in ADAMS, contact the PDR's Reference staff at 1-800-397-4209, 301-415-4737 or by email to pdr.resource@nrc.gov.

Entergy Nuclear Operations, Inc., Docket No. 50-333, James A. FitzPatrick Nuclear Power Plant, Oswego County, New York

Date of application for amendment: July 22, 2011, as supplemented October 19, 2011.

Brief description of amendment: The proposed amendment modifies the Technical Specifications (TS) by relocating specific Surveillance Frequencies to a licensee-controlled program with the adoption of Technical Specification Task Force (TSTF)-425, Revision 3, “Relocate Surveillance Frequencies to Licensee Control-Risk Informed Technical Specification Task Force (RITSTF) Initiative 5b.”

The existing Bases information describing the basis for the Surveillance Frequency will be relocated to the licensee-controlled Surveillance Frequency Control Program. Additionally, the change adds a new program TS 5.5.15, “Surveillance Frequency Control Program,” to TS Section 5.5, “Programs and Manuals.”

The changes are consistent with NRC approved Industry/TSTF STS change TSTF-425, Revision 3, (Rev. 3) (ADAMS Accession No. ML090850642). The Federal Register notice published on July 6, 2009 (74 FR 31996) announced the availability of this TS improvement.

Date of issuance: February 14, 2012.

Effective date: As of the date of issuance, and shall be implemented within 120 days.

Amendment No.: 301.

Renewed Facility Operating License No. DPR-59: The amendment revised the License and the Technical Specifications.

Date of initial notice in Federal Register: November 15, 2011 (76 FR 70772).

The supplemental letter dated October 19, 2011, provided additional information that clarified the application, did not expand the scope of the application as originally noticed, and did not change the NRC staff's original proposed no significant hazards consideration determination as published in the Federal Register.

The Commission's related evaluation of the amendment is contained in a Safety Evaluation dated February 14, 2012.

No significant hazards consideration comments received: No.

Entergy Gulf States Louisiana, LLC, and Entergy Operations, Inc., Docket No. 50-458, River Bend Station, Unit 1, West Feliciana Parish, Louisiana

Date of amendment request: June 10, 2011, as supplemented by letter dated July 27, 2011.

Brief description of amendment: The amendment revised the Technical Specifications (TSs) to add a new limiting condition for operation (LCO) Applicability requirement, LCO 3.0.9, and its associated Bases, relating to the modification of requirements regarding the impact of unavailable barriers, not explicitly addressed in the TSs, but required for operability of supported systems in the TSs. This change is consistent with NRC-approved Technical Specification Task Force (TSTF) Improved Standard Technical Specification Change Traveler, TSTF-427, Revision 2, “Allowance for Non Technical Specification Barrier Degradation on Supported System OPERABILITY,” using the consolidated line item improvement process.

Date of issuance: February 8, 2012.

Effective date: As of the date of issuance and shall be implemented 60 days from the date of issuance.

Amendment No.: 173.

Facility Operating License No. NPF-47: The amendment revised the Facility Operating License and Technical Specifications.

Date of initial notice in Federal Register: July 26, 2011 (76 FR 44616). The supplemental letter dated July 27, 2011, provided additional information that clarified the application, did not expand the scope of the application as originally noticed, and did not change the staff's original proposed no significant hazards consideration determination as published in the Federal Register.

The Commission's related evaluation of the amendment is contained in a Safety Evaluation dated February 8, 2012.

No significant hazards consideration comments received: No.

Exelon Generation Company, LLC, Docket No. 50-352, Limerick Generating Station, Unit 1, Montgomery County, Pennsylvania

Date of application for amendment: October 12, 2011, as supplemented on January 13, 2012.

Brief description of amendment: The changes revise the Technical Specification (TS) relating to the Safety Limit Minimum Critical Power Ratios (SLMCPRs). The changes result from a cycle-specific analysis performed to support the operation of Limerick Generating Station, Unit 1, in the upcoming Cycle 15. Specifically, the TS changes will revise the SLMCPRs contained in TS 2.1 for two recirculation loop operation and single-recirculation loop operation to reflect the changes in the cycle-specific analysis. The new SLMCPRs are calculated using Nuclear Regulatory Commission-approved methodology described in NEDE 24011-P-A, General Electric Standard Application for Reactor Fuel, Revision 18.

Date of issuance: February 17, 2012.

Effective date: As of the date of issuance and shall be implemented within 30 days of issuance.

Amendment No.: 206.

Facility Operating License No. NPF-39. The amendment revised the license and the Technical Specifications.

Date of initial notice in Federal Register: December 6, 2011 (76 FR 76196).

The supplement dated January 13, 2012, clarified the application, did not expand the scope of the application as originally noticed, and did not change the initial proposed no significant hazards consideration determination.

The Commission's related evaluation of the amendments is contained in a Safety Evaluation dated February 17, 2012.

No significant hazards consideration comments received: No.

Nebraska Public Power District, Docket No. 50-298, Cooper Nuclear Station, Nemaha County, Nebraska

Date of amendment request: March 26, 2011.

Brief description of amendment: The amendment revised several Technical Specification (TS) pages to correct formatting errors and typographical errors, including pages within TS 3.1.3, “Control Rod OPERABILITY,” TS 3.1.4, “Control Rod Scram Times,” TS 3.3.1.1, “Reactor Protection System (RPS) Instrumentation,” TS 3.3.5.1, “Emergency Core Cooling System (ECCS) Instrumentation,” TS 3.3.6.1, “Primary Containment Isolation Instrumentation,” TS 3.3.6.2, “Secondary Containment Isolation Instrumentation,” TS 3.3.8.1, “Loss of Power (LOP) Instrumentation,” TS 3.3.8.2, “Reactor Protection System (RPS) Electric Power Monitoring,” TS 3.5.1, “ECCS—Operating,” TS 3.5.2, “ECCS—Shutdown,” TS 3.6.1.1, “Primary Containment,” TS 3.6.4.3, “Standby Gas Treatment (SGT) System,” TS 3.7.4, “Control Room Emergency Filter (CREF) System,” TS 3.8.1, “AC [Alternating Current] Sources—Operating,” TS 3.8.3, “Diesel Fuel Oil, Lube Oil, and Starting Air,” TS 5.2, “Organization,” and TS 5.5, “Programs and Manuals”. In addition, the amendment revised TS 5.5.6, “Inservice Testing Program,” to remove an expired one-time exception of the 5-year frequency requirement for setpoint testing of safety valve MSRV-70ARV.

Date of issuance: February 16, 2012.

Effective date: As of the date of issuance and shall be implemented within 60 days of issuance.

Amendment No.: 241.

Renewed Facility Operating License No. DPR-46: Amendment revised the Facility Operating License and Technical Specifications.

Date of initial notice in Federal Register: November 1, 2011 (76 FR 67489).

The Commission's related evaluation of the amendment is contained in a Safety Evaluation dated February 16, 2012.

No significant hazards consideration comments received: No.

South Carolina Electric & Gas Company, South Carolina Public Service Authority, Docket No. 50-395, Virgil C. Summer Nuclear Station, Unit 1, Fairfield County, South Carolina

Date of application for amendment: May 2, 2011.

Brief description of amendment: This license amendment revised the Technical Specifications (TSs) 3.4.6.1, “RCS [Reactor Coolant System] Leakage Detection Systems,” to define a new time limit for restoring inoperable RCS leakage detection instrumentation to operable status, establish alternate methods of monitoring RCS leakage when monitors are inoperable, and to reflect the requested changes and more accurately reflect the contents of the facility design bases related to the operability of the RCS leakage detection instrumentation.

Date of issuance: February 22, 2012.

Effective date: As of the date of issuance and shall be implemented within 120 days.

Amendment No.: 186.

Renewed Facility Operating License No. NPF-12: Amendment revises the License and TSs.

Date of initial notice in Federal Register: July 12, 2011 (76 FR 40941).

The Commission's related evaluation of the amendment is contained in a Safety Evaluation dated February 22, 2012.

No significant hazards consideration comments received: No.

South Carolina Electric and Gas Company, South Carolina Public Service Authority, Docket No. 50-395, Virgil C. Summer Nuclear Station, Unit 1, Fairfield County, South Carolina

Date of application for amendment: August 23, 2011.

Brief description of amendment: The amendments revise the facility operating license to delete Section 2.G.1 of the Facility Operating License, which requires reporting of violations of the requirements in Section 2, items C(1), C(3) though (33), E, F, K, and L of the Facility Operating License. The proposed amendment would also delete Section 6.6 of the Technical Specifications (TSs) regarding reportable events. Section 6.6 of the TSs are redundant to requirements that have since been embodied in the regulations and, accordingly, may be deleted from the TS.

Date of issuance: February 22, 2012.

Effective date: This license amendment is effective as of the date of its issuance.

Amendment No.: 185.

Renewed Facility Operating License No. NPF-12: Amendment revises the License and TSs.

Date of initial notice in Federal Register: November 15, 2011 (76 FR 70774).

The Commission's related evaluation of the amendment is contained in a Safety Evaluation dated February 22, 2012.

No significant hazards consideration comments received: No.

For the Nuclear Regulatory Commission.
Dated at Rockville, Maryland, this 24th day of February 2012.
Michele G. Evans,
Director, Division of Operating Reactor Licensing, Office of Nuclear Reactor Regulation.

[FR Doc. 2012-4958 Filed 3-5-12; 8:45 am]

BILLING CODE 7590-01-P